DEPARTMENT OF ENERGY

National Nuclear Security Administration

Notice of Update to Advance Consent List

AGENCY: National Nuclear Security Administration, Department of Energy.

ACTION: Notice of update to advance consent list.

SUMMARY: The Department of Energy's National Nuclear Security Administration is providing notice of an update to the advance consent list of countries or destinations eligible to receive retransfers from the United Kingdom of Great Britain and Northern Ireland of byproduct material, non-nuclear material, unirradiated low enriched uranium, unirradiated source material, and equipment subject to Article 6 of the Agreement between the Government of the United States of America and the Government of the United Kingdom of Great Britain and Northern Ireland for Cooperation in Peaceful Uses of Nuclear Energy, done at Washington May 4, 2018, entered into force December 31, 2020 (“U.S.-UK 123 Agreement”).

FOR FURTHER INFORMATION CONTACT: Ms. Andrea Ferkile, Director, Office of Nonproliferation Policy, National Nuclear Security Administration, Department of Energy, 1000 Independence Avenue SW, Washington, DC 20585, telephone: (202) 586-8868 or email: andrea.ferkile@nnsa.doe.gov.

SUPPLEMENTARY INFORMATION: Article 6 of the U.S.-UK 123 Agreement permits retransfers of the following beyond the territory, jurisdiction, or control of the recipient party if the U.S. and the UK agree in writing: material, equipment, sensitive nuclear facilities, or major critical components transferred pursuant to the U.S.-UK 123 Agreement, and special fissionable material produced through the use of nuclear material, non-nuclear material, equipment, sensitive nuclear facilities, or major critical components so transferred. Subsection A of Section 4 of the Agreed Minute of the U.S.-UK 123 Agreement permits the United States and the UK to retransfer material, other than irradiated nuclear material, and equipment subject to Article 6 of the Agreement to third countries or destinations identified in advance (“advance consent lists”). To be eligible for inclusion on the advance consent lists, third countries or destinations must have made effective non-proliferation commitments and, for countries on the U.S. advance consent list, must be a party to a civil nuclear cooperation agreement with the United States. Such agreements are entered into under the authority of section 123 of the Atomic Energy Act of 1954, as amended (“123 agreement”). Subsection C of Section 4 permits either the United States or the UK to delete third countries or destinations from either list temporarily or permanently following consultations with the other Party.

The Agreement for Cooperation between the Government of the United States of America and the Government of the Arab Republic of Egypt Concerning Peaceful Uses of Nuclear Energy, signed at Washington June 29, 1981, expired December 29, 2021. The Agreement for Cooperation between the United States of America and the Republic of South Africa Concerning Peaceful Uses of Nuclear Energy, done at Pretoria August 25, 1995, entered into force December 4, 1997, expired December 4, 2022. In the absence of 123 agreements with Egypt and South Africa, these countries are being deleted from the advance consent list of countries or destinations eligible to receive retransfers from the United Kingdom of Great Britain and Northern Ireland of byproduct material, non-nuclear material, unirradiated low enriched uranium, unirradiated source material, and equipment subject to Article 6 of the U.S.-UK 123 Agreement.

Signing Authority

This document of the Department of Energy was signed on April 26, 2024, by Corey Hinderstein, Deputy Administrator for Defense Nuclear Nonproliferation, National Nuclear Security Administration, pursuant to delegated authority from the Secretary of Energy. That document with the original signature and date is maintained by DOE. For administrative purposes only, and in compliance with requirements of the Office of the Federal Register, the undersigned DOE Federal Register Liaison Officer has been authorized to sign and submit the document in electronic format for publication, as an official document of the Department of Energy. This administrative process in no way alters the legal effect of this document upon publication in the Federal Register.

Signed in Washington, DC, on May 2, 2024.
Treena V. Garrett,
Federal Register Liaison Officer, U.S. Department of Energy.

[FR Doc. 2024-09961 Filed 5-7-24; 8:45 am]

BILLING CODE 6450-01-P